DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 27, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 04, 2022.
Donald P. Burger,
Chief, General Approvals and Permits Branch.

Application No. | Applicant | Regulation(s) affected | Nature of the special permits thereof
Special Permits Data—Granted
10945-M | Structural Composites Industries LLC | 172.203(a), 172.301(c), 173.302a(a)(1), 173.304a(a)(1), 180.205 | To modify the special permit to authorize additional hazardous materials.
11180-M | Affival Inc | 172.300, 172.400, 172.500, 173.1, 173.24(c) | To modify the special permit to authorize welded metal tubing and additional hazardous materials.
11379-M | ZF Passive Safety Systems US Inc | 173.301(h), 173.302(a)(1) | To modify the special permit to authorize alternative safety control measures.
16485-M | Entegris, Inc | 173.302c(a), 173.302c(i)(5), 180.205(f), 180.205(g) | To modify the special permit by authorizing DOT-3AA cylinders containing adsorbed gases to be requalified by the helium proof pressure and leak test authorized by DOT-SP 13220.
20470-M | Imperial Automotive Logistics GmbH | 172.101(j) | To modify the special permit to authorize additional authorized lithium ion batteries.
21266-N | Richmond Pacific Railroad Corp | 172.203(a), 174.24, 174.26 | To authorize the use of electronic shipping paper information and train consist information when hazardous materials are transported by rail.
21301-N | DGM Italia Srl | 172.101(j) | To authorize the transportation in commerce of lithium ion batteries exceeding 35 kg by cargo-only aircraft.
21310-M | Airbus Defence And Space GmbH | 172.101(j), 173.301(f), 173.302a(a)(1), 173.304a(a)(2) | To add cargo vessel due to destruction/grounding of Antonov air fleet.
21323-N | Canadian Pacific Railway Company | 172.203(a), 173.24, 173.26 | To authorize the use of electronic shipping paper information and train consist information when hazardous materials are transported by rail.
21339-N | Department of Defense US Army Military Surface Deployment & Distribution Command | 173.27(f)(3), 173.202 | To authorize the transportation in commerce of UN2030, hydrazine aqueous solution in the packaging in paragraph 7.a.
21345-N | Milliporesigma | 173.225(c)(3), 173.124 | To authorize the transportation in commerce of a self-reactive solid type C that has not been properly classed.
Special Permits Data—Denied
12412-M | Circle Transport Inc | 172.203(a), 172.302(c), 177.834(h) | To modify the special permit to authorize 550-gallon Intermediate Bulk Containers.
20949-M | Sigma-Aldrich, Inc | 178.601(k) | To modify the special permit to remove the requirement to carry a copy of the SP aboard each vehicle, vessel or aircraft and to remove the requirement to maintain a copy of the SP at each facility offering or reoffering packages covered by the SP.
21287-N | Daikin Applied Americas Inc | 173.307(a)(4)(iv) | To authorize the transportation in commerce of refrigerating machines, including dehumidifiers and air conditioners, and components thereof, containing 20 kg (44 pounds) or less of GHS Category 1B or ASHRAE A2L gases in the same manner as A1 gases, per 49 CFR 173.307(a)(4)(iv).
Special Permits Data—Withdrawn
21294-N | Trane U.S. Inc | 173.306(e)(1)(i), 173.306(e)(1)(ii) | To authorize the transportation in commerce of large refrigerating machines where each pressure vessel containing A2L refrigerant gases in quantities exceeding 50 pounds and an aggregate of more than 100 pounds.

[FR Doc. 2022-11406 Filed 5-26-22; 8:45 am]

BILLING CODE 4909-60-P